DEPARTMENT OF JUSTICE

Notice of Lodging of Consent Decree Under the Comprehensive Environmental Response, Compensation and Liability Act (“CERCLA”)

Consistent with Departmental policy, 28 CFR 50.7, 38 FR 19029, and 42 U.S.C. 9622(d), notice is hereby given that on September 15, 2003, a proposed consent decree in United States v. Mallinckrodt Baker, Inc., et al., Civil Action No. 03-417S, was lodged with the United States District Court for the District of Rhode Island.

In this action the United States sought recovery of response costs pursuant to Section 107(a) of CERCLA, for costs incurred related to the Davis Liquid Waste Site in Smithfield, Rhode Island. The consent decree requires three generator defendants to pay $1,400,00, of which the United States will receive $660,000. The remaining portion will go to the State of Rhode Island and National Starch and Chemical Co. (“National Starch”), a contribution plaintiff.

The Department of Justice will receive for a period of thirty (30) days from the date of this publication comments relating to the consent decree. Comments should be addressed to the Assistant Attorney General, Environment and Natural Resources Division, P.O. Box 7611, U.S. Department of Justice, Washington, DC 20044-7611, and should refer to United States v. Mallinckrodt Baker, Inc., et al., D.J. Ref. #90-11-2-137/1.

The consent decree may be examined at the Office of the United States Attorney, Fleet Center, 50 Kennedy Plaza, 8th Floor, Providence, Rhode Island 02903 (contact AUSA Michael Iannotti), and at U.S. EPA Region I, One Congress Street, Suite 1100, Mail Code SES, Boston, MA 02114 (contact Ruthann Sherman). During the public comment period the consent decree may also be examined on the following Department of Justice Web site, http://www.usdoj.gov/enrd/open.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.50 (25 cents per page reproduction cost) payable to the U.S. Treasury.

Ronald G. Gluck,
Assistant Chief, Environmental Enforcement Section, Environment and Natural Resources Division.

[FR Doc. 03-24933 Filed 10-1-03; 8:45 am]

BILLING CODE 4410-35-M